FEDERAL TRADE COMMISSION

Agency Information Collection Activities; Proposed Collection; Comment Request; Extension

AGENCY: Federal Trade Commission.

ACTION: Notice.

SUMMARY: The Federal Trade Commission (“FTC” or “Commission”) is seeking public comments on its proposal to extend for an additional three years the current Paperwork Reduction Act (“PRA”) clearance for information collection requirements contained in the Fair Packaging and Labeling Act regulations (“FPLA Rules”). That clearance expires on March 31, 2024.

DATES: Comments must be filed by October 30, 2023.

ADDRESSES: Interested parties may file a comment online or on paper, by following the instructions in the Request for Comment part of the SUPPLEMENTARY INFORMATION section below. Write “FPLA Rules, PRA Comment, P074200” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Jock Chung, Attorney, Division of Enforcement, Bureau of Consumer Protection, Federal Trade Commission, Room CC-9543, 600 Pennsylvania Avenue NW, Washington, DC 20580, (202) 326-2984.

SUPPLEMENTARY INFORMATION:

Title of Collection: Regulations Under Section 4 of the Fair Packaging and Labeling Act (FPLA), 16 CFR parts 500-503.

OMB Control Number: 3084-0110.

Type of Review: Extension without change of currently approved collection.

Abstract: The Fair Packaging and Labeling Act, 15 U.S.C. 1451 et seq., was enacted to enable consumers to obtain accurate package quantity information to facilitate value comparisons and prevent unfair or deceptive packaging and labeling of consumer commodities. Section 4 of the FPLA requires packages or labels to be marked with: (1) A statement of identity; (2) a net quantity of contents disclosure; and (3) the name and place of business of the company responsible for the product. The FPLA regulations, 16 CFR parts 500-503, specify how manufacturers, packagers, and distributors of “consumer commodities” must comply with the Act's labeling requirements.

Affected Public: Private Sector: Businesses and other for-profit entities.

Estimated Annual Burden Hours: 7,436,580.

Estimated Annual Labor Costs: $188,799,893.

Estimated Annual Non-Labor Costs: $0.

As required by section 3506(c)(2)(A) of the PRA, 44 U.S.C. 3506(c)(2)(A), the FTC is providing this opportunity for public comment before requesting that OMB extend the existing clearance for the information collection requirements contained in the FPLA Rules.

Burden Estimates

Estimated Number of Respondents: 743,658.

FTC staff estimates there are approximately 743,658 retailers, wholesalers, and manufacturers that sell consumer commodities that are subject to the FPLA Rules' labeling requirements.¹

¹ FTC staff based this estimate on a combination of U.S. Census Bureau (“Census”) data and information from the North American Industry Classification System (“NAICS”). FTC staff identified categories of retailers, wholesalers, and manufacturers under its jurisdiction that supply consumer commodities as defined in the FPLA Rules. FTC staff estimated the number of retailers (317,973) based on 2021 Census data compiling NAICS subsector codes 445, 452, and 453, respectively, for food and beverage stores, general merchandise stores, and miscellaneous store retailers. See https://data.census.gov/table?n=445:452:453&tid=CBP2021.CB2100CBP&nkd=EMPSZES~001,LFO~001. FTC staff estimated the number of wholesalers (354,180) using 2021 Census data concerning the number of firms covered by NAICS subset code 42 for merchant wholesalers, except manufacturers' sales branches and offices (NAICS subsector code 425). See https://data.census.gov/table?n=42&tid=CBP2021.CB2100CBP&nkd=EMPSZES~001,LFO~001 (reflecting that NAICS subset code 42 covers 390,842 entities); https://data.census.gov/table?n=425&tid=CBP2021.CB2100CBP&nkd=EMPSZES~001,LFO~001 (reflecting that NAICS subsector code 425 covers 36,662 entities). FTC staff estimated the number of covered manufacturers (71,505) by compiling the estimated number of manufacturing entities covered by NAICS codes 321999, 322220, 322299, 324191, 324199, 325520, 3256, 325992, 325998, 326111, 326130, 326140, 326199, 327910, 331315, 339999. See https://www.naics.com/six-digit-naics/?v=2022&code=31-33.

Burden Hours: 7,436,580 hours.

FTC staff estimates that covered entities spend approximately 10 hours per year to comply with the FPLA Rule's labeling requirements. As a result, the FTC estimates that the total burden hours attributable to FTC requirements is 7,436,580 hours (743,658 respondents × 10 hours).

Labor Costs: $188,799,893.

FTC staff derives labor costs by applying estimated hourly cost figures to the burden hours described above. Commission staff estimates the hours spent to comply with the FPLA Rules' labeling requirements will break down as follows: 1 hour of managerial and/or professional time per covered entity, at an hourly wage of $59.07,² 2 hours of graphic design support, at an hourly wage of $31.01,³ 7 hours of clerical time per covered entity, at an hourly wage of $18.97,⁴ for a total of $188,799,893 ⁵ ($253.88 blended labor cost per covered entity × 743,658 entities).

² Based on the mean hourly wage rate for “General and Operations Managers” ($59.07), available from Bureau of Labor Statistics, Economic News Release, April 25, 2023, Table 1, “National employment and wage data from the Occupational Employment Statistics survey by occupation, May 2022” (“BLS Table 1”), available at https://www.bls.gov/news.release/ocwage.htm.

³ This wage estimate consists of work time for graphic designers who design the appearance and layout of product packaging, including the appropriate display of the disclosures required by the FPLA Rules. The corresponding wage estimate is based on mean hourly wages for “Graphic designers” ($31.01). See BLS Table 1.

⁴ See id. The clerical wage estimate is based on the mean hourly wages for “data entry and information processing workers” ($18.97).

⁵ Rounded from $188,799,893.04.

Capital/Non-Labor Costs: $0.

Commission staff believes that the FPLA Rules impose negligible capital or other non-labor costs, as the affected entities are likely to have the necessary supplies and/or equipment already (e.g., offices and computers) for the information collections discussed above.

Request for Comment

Pursuant to Section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before October 30, 2023. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “FPLA Rules, PRA Comment, P074200” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before October 30, 2023. For information on the Commission's privacy policy, including routine uses permitted by the Privacy Act, see https://www.ftc.gov/site-information/privacy-policy.

Josephine Liu,
Assistant General Counsel for Legal Counsel.

[FR Doc. 2023-18766 Filed 8-29-23; 8:45 am]

BILLING CODE 6750-01-P